DEPARTMENT OF ENERGY

Federal Energy Regulatory Commission

Combined Notice of Filings #1

Take notice that the Commission received the following electric rate filings:

Docket Numbers: ER13-79-014.

Applicants: Public Service Company of New Mexico.

Description: Compliance filing: Compliance Filing to April 2025 Order to be effective 12/17/2024.

Filed Date: 5/23/25.

Accession Number: 0250523-5141.

Comment Date: 5 p.m. ET 6/13/25.

Docket Numbers: ER25-2299-000.

Applicants: Sentinel Energy Center, LLC.

Description: Petition for Limited Waiver of Sentinel Energy Center, LLC.

Filed Date: 5/21/25.

Accession Number: 20250521-5183.

Comment Date: 5 p.m. ET 6/11/25.

Docket Numbers: ER25-2300-000.

Applicants: Southwest Power Pool, Inc.

Description: 205(d) Rate Filing: 1534R16 Kansas Municipal Energy Agency NITSA NOA to be effective 5/1/2025.

Filed Date: 5/23/25.

Accession Number: 20250523-5007.

Comment Date: 5 p.m. ET 6/13/25.

Docket Numbers: ER25-2301-000.

Applicants: PJM Interconnection, L.L.C.

Description: 205(d) Rate Filing: Amendment to ISA, Service Agreement No. 6842; Queue No. AF1-215/AF2-134 to be effective 7/23/2025.

Filed Date: 5/23/25.

Accession Number: 20250523-5026.

Comment Date: 5 p.m. ET 6/13/25.

Docket Numbers: ER25-2302-000.

Applicants: Midcontinent Independent System Operator, Inc.

Description: 205(d) Rate Filing: 2025-05-23_SA 3374 Entergy Louisiana-Amite Solar 2nd Rev GIA (J909) to be effective 5/19/2025.

Filed Date: 5/23/25.

Accession Number: 20250523-5035.

Comment Date: 5 p.m. ET 6/13/25.

Docket Numbers: ER25-2303-000.

Applicants: PJM Interconnection, L.L.C.

Description: 205(d) Rate Filing: Amendment to ISA, Service Agreement No. 5732; Queue Position No. AC1-208 to be effective 7/23/2025.

Filed Date: 5/23/25.

Accession Number: 20250523-5049.

Comment Date: 5 p.m. ET 6/13/25.

Docket Numbers: ER25-2304-000.

Applicants: Midcontinent Independent System Operator, Inc.

Description: 205(d) Rate Filing: 2025-05-23_Tariff Revisions Related to ROE to be effective 9/28/2016.

Filed Date: 5/23/25.

Accession Number: 20250523-5082.

Comment Date: 5 p.m. ET 6/13/25.

Docket Numbers: ER25-2305-000.

Applicants: PJM Interconnection, L.L.C.

Description: 205(d) Rate Filing: Original NSA, Service Agreement No. 7674; AF1-028 to be effective 7/23/2025.

Filed Date: 5/23/25.

Accession Number: 20250523-5086.

Comment Date: 5 p.m. ET 6/13/25.

Docket Numbers: ER25-2306-000.

Applicants: Southwestern Electric Power Company.

Description: 205(d) Rate Filing: SWEPCO-Rabbit's Foot Solar Preliminary Development Agreement to be effective 4/28/2025.

Filed Date: 5/23/25.

Accession Number: 20250523-5100.

Comment Date: 5 p.m. ET 6/13/25.

Docket Numbers: ER25-2307-000.

Applicants: Midcontinent Independent System Operator, Inc.

Description: 205(d) Rate Filing: 2025-05-23_Revisions to Coordination Agreement between MISO and IESO to be effective 5/1/2025.

Filed Date: 5/23/25.

Accession Number: 20250523-5106.

Comment Date: 5 p.m. ET 6/13/25.

Docket Numbers: ER25-2308-000.

Applicants: Magnolia Power LLC.

Description: Initial Rate Filing: Application for Market Based Rate Authority to be effective 7/4/2025.

Filed Date: 5/23/25.

Accession Number: 20250523-5109.

Comment Date: 5 p.m. ET 6/13/25.

Docket Numbers: ER25-2309-000.

Applicants: Southwest Power Pool, Inc.

Description: 205(d) Rate Filing: Revisions to Develop HVDC Planning Criteria (RR 650) to be effective 7/23/2025.

Filed Date: 5/23/25.

Accession Number: 20250523-5130.

Comment Date: 5 p.m. ET 6/13/25.

Docket Numbers: ER25-2310-000.

Applicants: SESCO Enterprises, LLC.

Description: Tariff Amendment: Notice of Cancellation of Market-Based Rate Tariff to be effective 5/24/2025.

Filed Date: 5/23/25.

Accession Number: 20250523-5131.

Comment Date: 5 p.m. ET 6/13/25.

Docket Numbers: ER25-2311-000.

Applicants: SESCO CALISO, LLC.

Description: Tariff Amendment: Notice of Cancellation of Market-Based Rate Tariff to be effective 5/24/2025.

Filed Date: 5/23/25.

Accession Number: 20250523-5137.

Comment Date: 5 p.m. ET 6/13/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes.

For public inquiries and assistance with making filings such as interventions, comments, or requests for rehearing, the public is encouraged to contact OPP at (202) 502-6595 or OPP@ferc.gov.

Dated: May 23, 2025.
Debbie-Anne A. Reese,
Secretary.

[FR Doc. 2025-09804 Filed 5-29-25; 8:45 am]

BILLING CODE 6717-01-P